FEDERAL RETIREMENT THRIFT INVESTMENT

Agenda; Board Meeting

November 27, 2018, 8:30 a.m.(In-Person)

Open Session

1. Approval of the minutes for the October 22, 2018 Board Member Meeting

2. Monthly Reports

(a) Participant Activity

(b) Investment Performance

(c) Legislative Report

3. Quarterly Reports

(d) Metrics

4. Office of Participant Services Annual Report

5. Office of Enterprise Planning Annual Report

6. Withdrawal Project Update

Closed Session

Material covered by 5 U.S.C. (c)(4), (c)(6), and (c)(9)(B).

FOR FURTHER INFORMATION CONTACT: Kimberly Weaver, Director, Office of External Affairs, (202) 942-1640.

Dated: November 19, 2018.
Megan G. Grumbine,
General Counsel, Federal Retirement Thrift Investment Board.

[FR Doc. 2018-25543 Filed 11-21-18; 8:45 am]

BILLING CODE P